DEPARTMENT OF EDUCATION

List of Correspondence From January 1, 2016, Through March 31, 2016, and April 1, 2016, Through June 30, 2016

AGENCY: Office of Special Education and Rehabilitative Services, Department of Education.

ACTION: Notice.

SUMMARY: The Secretary is publishing the following list of correspondence from the U.S. Department of Education (Department) received by individuals during the first and second quarters of 2016. The correspondence describes the Department's interpretations of the Individuals with Disabilities Education Act (IDEA) or the regulations that implement the IDEA. This list and the letters or other documents described in this list, with personally identifiable information redacted, as appropriate, can be found at: www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from January 1, 2016, through March 31, 2016, and April 1, 2016, through June 30, 2016. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter and provides summary information, as appropriate. To protect the privacy interests of the individual or individuals involved, personally identifiable information has been redacted, as appropriate.

Part A—General Provisions

Section 608—State Administration

Topic Addressed: Rulemaking

○ Letter dated March 3, 2016, to individual (personally identifiable information redacted), regarding whether certain New York State regulations are consistent with the requirements of Part B of the IDEA.

Part B—Assistance for Education of All Children With Disabilities

Section 612—State Eligibility

Topic Addressed: Free Appropriate Public Education

○ Dear Colleague Letter dated April 26, 2016, regarding the obligations of public agencies in meeting the special education and related services needs of children with disabilities who reside in nursing homes.

Topic Addressed: State Advisory Panel

○ Letter dated February 9, 2016, to Technical Assistance for Excellence in Special Education, Executive Director John D. Copenhaver, clarifying whether an individual who is not the parent of a child with a disability under Part B of the IDEA can serve as a member of the State advisory panel.

Section 614—Evaluations, Eligibility Determinations, Individualized Education Programs, and Educational Placements

Topic Addressed: Individualized Education Program (IEP) Team

○ Letter dated February 17, 2016, to Illinois State Board of Education official, David Andel, reiterating the policy of the Office of Special Education Programs (OSEP) regarding attendance of attorneys at IEP Team meetings, and clarifying that the parent is not required to notify the public agency prior to an IEP Team meeting that the parent will be bringing an attorney to an IEP Team meeting.

Topic Addressed: Eligibility Determinations

○ Letter dated April 25, 2016, to Decoding Dyslexia Missouri representative, Kelli Unnerstall, regarding a public agency's responsibility to conduct evaluations of children whose reading difficulties result from dyslexia, and a parent's right to challenge the public agency's evaluation.

Section 615—Procedural Safeguards

Topic Addressed: Independent Educational Evaluation

○ Letter dated January 19, 2016, to Maryland attorney Diana M. Savit, regarding whether professionals conducting independent educational evaluations initiated by parents and school personnel conducting evaluations for the public agency must have the same qualifications and reiterating OSEP's policy regarding the use of audio or video recording devices at IEP Team meetings.

Part C—Infants and Toddlers With Disabilities

Section 635—Requirements for Statewide System

Topic Addressed: Flexibility To Serve Children 3 Years of Age Until Entrance to Elementary School

○ Letter dated May 9, 2016, to Maryland Special Needs Advocacy Project Coordinator Martha Goodman, regarding whether a State that chooses to develop a State policy to make Part C services available to children three years of age and older may develop an IEP, to be implemented after the child turns three, before a parent chooses Part C or Part B services for their child.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 1, 2017.
Ruth E. Ryder,
Deputy Director, Office of Special Education Programs, delegated the duties of the Assistant Secretary for Special Education and Rehabilitative Services.

[FR Doc. 2017-11713 Filed 6-5-17; 8:45 am]

BILLING CODE 4000-01-P